DEPARTMENT OF AGRICULTURE

Agricultural Research Service

Notice of Intent To Grant Exclusive License

AGENCY: Research, Education, and Economics, USDA.

ACTION: Notice of intent; correction.

SUMMARY: Notice is hereby given that the U.S. Department of Agriculture, Agricultural Research Service, is correcting the notice stating it intends to grant to Huvepharma, Inc. of Peachtree City, Georgia, an exclusive license to U.S. Patent Application Serial No. 15/108,725, “MUTATED SALMONELLA ENTERIACA”, filed on June 28, 2016.

Correction

In the Federal Register of January 13, 2017 in FR Doc. 9, on page 4279, of the summary section, 3rd and fourth line should read as follows:

“MUTATED SALMONELLA ENTERICA”, filed on June 28, 2016.

Yvette Anderson,
Federal Register Liaison Officer for ARS, ERS, and NASS.

[FR Doc. 2017-01385 Filed 1-23-17; 8:45 am]

BILLING CODE 3410-03-P